DEPARTMENT OF HOMELAND SECURITY

Federal Emergency Management Agency

[Docket ID: FEMA-2014-0030; OMB No. 1660-0020]

Agency Information Collection Activities: Submission for OMB Review; Comment Request, Write Your Own (WYO) Program.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before January 29, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Room 7NE, Washington, DC 20472-3100, facsimile number (202) 212-4701, or email address FEMA-Information-Collections-Management@dhs.gov.

SUPPLEMENTARY INFORMATION: Changes Since Publication of the 60 Day Federal Register Notice for the Federal Emergency Management Agency Write Your Own (WYO) Program. The number of respondents and the estimated burden hours have increased since FEMA published the 60 day Federal Register Notice on October 15, 2014. See 79 FR 61886. This is due to a clerical error. The respondent burden increased from 88 to 90. The estimated responses increased from 1056 to 1080. The estimated time per response changed from 59 to 0.59. The total burden hours decreased from 62304 to 637.20.

Collection of Information

Title: Write Your Own (WYO) Program.

Type of information collection: Extension without change, of a currently approved information collection.

Form Titles and Numbers: FEMA Form 129-1, Write Your Own Program.

Abstract: FEMA enters into arrangements with individual private sector insurance companies that are licensed to engage in the business of property insurance. These companies may offer flood insurance coverage to eligible property owners utilizing their customary business practices. WYO Companies are expected to meet the recording and reporting requirements of the WYO Transaction Record Reporting and Processing Plan.

Affected Public: Business or other for profit.

Estimated Number of Respondents: 90.

Estimated Total Annual Burden Hours: 1080.

Estimated Total Annual Burden Hours: 637.20.

Estimated Cost: There are no annual start-up or capital costs.

Dated: December 17, 2014.
Charlene D. Myrthil,
Director, Records Management Division, Mission Support, Federal Emergency Management Agency, Department of Homeland Security.

[FR Doc. 2014-30549 Filed 12-29-14; 8:45 am]

BILLING CODE 9111-52-P